DEPARTMENT OF DEFENSE

Department of the Navy

Notice of Availability of Record of Decision for Atlantic Fleet Training and Testing

AGENCY: Department of the Navy, DoD.

ACTION: Notice.

SUMMARY: The United States Department of the Navy (DoN), after carefully weighing the strategic, operational and environmental consequences of the proposed action, announces its decision to support and conduct training and testing activities in the Atlantic Fleet study area as described in Alternative 2 for the proposed action. Under Alternative 2, the DoN analyzed areas where training and testing will continue as in the past, but were not considered in previous environmental analyzes; the establishment of new range capabilities, as well as modification of existing capabilities; adjustments to type and tempo of training and testing and the establishment of additional locations to conduct activities between the range complexes.

SUPPLEMENTARY INFORMATION: The complete text of the Record of Decision (ROD) is available on the project Web site at http://aftteis.com, along with the Final Environmental Impact Statement/Overseas Environmental Impact Statement for Atlantic Fleet Training and Testing, dated August 2013 and supporting documents. Single copies of the ROD are available upon request by contacting: Naval Facilities Engineering Command Atlantic, Attn: Code EV22 (AFTT EIS/OEIS Project Manager), 6506 Hampton Boulevard, Norfolk, VA 23508-1278.

Dated: November 25, 2013.
N.A. Hagerty-Ford,
Commander, Office of the Judge Advocate General, U.S. Navy, Federal Register Liaison Officer.

[FR Doc. 2013-28771 Filed 11-29-13; 8:45 am]

BILLING CODE 3810-FF-P